ENVIRONMENTAL PROTECTION AGENCY

[EPA-OECA-2014-0054; FRL—9985-02-OEI]

Proposed Information Collection Request; Comment Request; NESHAP for Pulp and Paper Production (Renewal)

AGENCY: Environmental Protection Agency (EPA).

ACTION: Notice.

SUMMARY: The Environmental Protection Agency (EPA) is planning to submit an information collection request (ICR), NESHAP for Pulp and Paper Production (EPA ICR Number 1657.08, OMB Control Number 2060-0387), to the Office of Management and Budget (OMB) for review and approval in accordance with the Paperwork Reduction Act. Before doing so, EPA is soliciting public comments on specific aspects of the proposed information collection as described below. This is a proposed extension of the ICR. An agency may not conduct or sponsor and a person is not required to respond to a collection of information unless it displays a currently valid OMB control number.

DATES: Comments must be submitted on or before December 14, 2018.

ADDRESSES: Submit your comments, referencing Docket ID Number EPA-OECA-2014-0054, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Office of Enforcement and Compliance Assistance, Mail Code 2227A, Environmental Protection Agency, 1200 Pennsylvania Ave. NW, Washington, DC 20460; telephone number: 202-564-2970; fax number: 202-564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Respondents are owners or operators of facilities that produce pulp, paper, or paperboard by employing kraft, soda, sulfite, semi-chemical, or mechanical pulping processes using wood; or any process using secondary or non-wood fiber and that emits 10 tons per year or more of any hazardous air pollutant or 25 tons per year or more of any combination of hazardous air pollutants. Affected sources are all the hazardous air pollutant emission points or the HAP emission points in the pulping and bleaching system for mechanical pulping processes using wood and any process using secondary or non-wood fiber.

Form Numbers: None.

Respondents/affected entities: Owners or operators of pulp and paper production facilities. Respondent's obligation to respond: Mandatory (40 CFR part 63, subpart S).

Estimated number of respondents: 114 (total).

Frequency of response: Initially, occasionally, quarterly, and semiannually.

Total estimated burden: 44,438 hours (per year). Burden is defined at 5 CFR 1320.03(b).

Total estimated cost: $5,191,626 (per year), includes $841,000 in annualized capital or operations and maintenance costs.

Changes in Estimates: There is an adjustment decrease in the total estimated burden as currently identified in the OMB Inventory of Approved Burdens. This decrease is not due to any program changes. The currently approved burden estimates contain requirements from the previous regulation as well as duplicate burden activities. In preparing this ICR renewal, EPA has removed duplicate items and updated the ICR so that it only reflects current requirements. This results in an apparent decrease in burden.

Courtney Kerwin,
Director, Regulatory Support Division.

[FR Doc. 2018-22404 Filed 10-12-18; 8:45 am]

BILLING CODE 6560-50-P